DEPARTMENT OF ENERGY

Federal Energy Regulatory Commission

Combined Notice of Filings #1

August 9, 2010.

Take notice that the Commission received the following electric corporate filings:

Docket Numbers: EC10-84-000.

Applicants: Black Hills Power, Inc.

Description: Application of Black Hills Power, Inc., for Section 203 Approval.

Filed Date: 08/06/2010.

Accession Number: 20100806-5061.

Comment Date: 5 p.m. Eastern Time on Friday, August 27, 2010.

Take notice that the Commission received the following exempt wholesale generator filings:

Docket Numbers: EG10-48-000.

Applicants: Eagle Creek Hydro Power, LLC.

Description: Supplemental Information to Notice of Self-Certification of Exempt Wholesale Generator Status of Eagle Creek Hydro Power, LLC.

Filed Date: 07/02/2010.

Accession Number: 20100702-5110.

Comment Date: 5 p.m. Eastern Time on Thursday, August 19, 2010.

Take notice that the Commission received the following electric rate filings:

Docket Numbers: ER07-1106-009; ER08-1255-004; ER10-566-002; ER07-1106-008.

Applicants: ArcLight Energy Marketing, LLC,; Oak Creek Wind Power, LLC; Coso Geothermal Power Holdings, LLC.

Description: Supplement to Updated Market Power Analysis for the Southwest Region on behalf of ArcLight Energy Marketing, LLC, et al.

Filed Date: 08/06/2010.

Accession Number: 20100806-5079.

Comment Date: 5 p.m. Eastern Time on Friday, August 27, 2010.

Docket Numbers: ER08-1281-005.

Applicants: New York Independent System Operator Inc.

Description: Compliance filing/response of PJM Interconnection, L.L.C. to July 15, 2010 Order.

Filed Date: 08/06/2010.

Accession Number: 20100806-5129.

Comment Date: 5 p.m. Eastern Time on Friday, August 27, 2010.

Docket Numbers: ER10-2149-000.

Applicants: Visteon System, LLC.

Description: Visteon Systems, LLC submits a Notice of Cancellation of their market-based rater tariff—FERC Electric Tariff, Original Volume 1.

Filed Date: 08/05/2010.

Accession Number: 20100806-0201.

Comment Date: 5 p.m. Eastern Time on Thursday, August 26, 2010.

Docket Numbers: ER10-2150-000.

Applicants: AL Sandersville, LLC.

Description: Al Sandersville, LLC submits notice of succession to KGen Sandersville LLC's FERC Electric Tariff, First Revised Volume 1.

Filed Date: 08/05/2010.

Accession Number: 20100806-0202.

Comment Date: 5 p.m. Eastern Time on Thursday, August 26, 2010.

Docket Numbers: ER10-2150-001.

Applicants: AL Sandersville, LLC.

Description: Notice of Change in Status of AL Sandersville, LLC.

Filed Date: 08/05/2010.

Accession Number: 20100805-5145.

Comment Date: 5 p.m. Eastern Time on Thursday, August 26, 2010.

Docket Numbers: ER10-2151-000.

Applicants: Windstar Energy, LLC.

Description: Request for authorization to sell energy and capacity at market-based rates re Windstar Energy, LLC.

Filed Date: 08/05/2010.

Accession Number: 20100806-0203.

Comment Date: 5 p.m. Eastern Time on Thursday, August 26, 2010.

Docket Numbers: ER10-2152-000.

Applicants: ISO New England Inc.

Description: Filing Parties submits revisions to ISO Tariff related to the allocation of loss revenue.

Filed Date: 08/05/2010.

Accession Number: 20100806-0204.

Comment Date: 5 p.m. Eastern Time on Thursday, August 26, 2010.

Docket Numbers: ER10-2153-000.

Applicants: Consolidated Edison Company of New York, Inc.

Description: Consolidated Edison Company of New York, Inc. submits tariff filing per 35: Re-filing of Con Edison baseline filings to be effective 8/6/2010.

Filed Date: 08/06/2010.

Accession Number: 20100806-5021.

Comment Date: 5 p.m. Eastern Time on Friday, August 27, 2010.

Docket Numbers: ER10-2154-000.

Applicants: National Grid Glenwood Energy Center LLC.

Description: National Grid Glenwood Energy Center LLC submits tariff filing per 35.12: National Grid-Glenwood FERC Electric Tariff No. 1 (Market-Based Rates) to be effective 8/6/2010.

Filed Date: 08/06/2010.

Accession Number: 20100806-5027.

Comment Date: 5 p.m. Eastern Time on Friday, August 27, 2010.

Docket Numbers: ER10-2155-000.

Applicants: National Grid Port Jefferson.

Description: National Grid Port Jefferson submits tariff filing per 35.12: National Grid-Port Jefferson FERC Electric Tariff No. 1 (Market-Based Rates) to be effective 8/6/2010.

Filed Date: 08/06/2010.

Accession Number: 20100806-5030.

Comment Date: 5 p.m. Eastern Time on Friday, August 27, 2010.

Docket Numbers: ER10-2156-000.

Applicants: Consumers Energy Company.

Description: Consumers Energy Company submits tariff filing per 35.12: Rate Schedule No. _ Facilities Agreement with the Midland Cogeneration Venture to be effective 10/5/2010.

Filed Date: 08/06/2010.

Accession Number: 20100806-5047.

Comment Date: 5 p.m. Eastern Time on Friday, August 27, 2010.

Docket Numbers: ER10-2157-000.

Applicants: Louisville Gas and Electric Company.

Description: Louisville Gas and Electric Company submits tariff filing per 35.13(a)(2)(iii) Attachment Q 2.0.0 to be effective 9/1/2010.

Filed Date: 08/06/2010.

Accession Number: 20100806-5058.

Comment Date: 5 p.m. Eastern Time on Friday, August 27, 2010.

Docket Numbers: ER10-2158-000.

Applicants: New York Independent System Operator Inc.

Description: New York Independent System Operator submits tariff filing per 35.13(a)(2)(iii) Compliance Filing Rate Schedule M-1—Schnell 8/6/10 to be effective 6/30/2010.

Filed Date: 08/06/2010.

Accession Number: 20100806-5065.

Comment Date: 5 p.m. Eastern Time on Friday, August 27, 2010.

Docket Numbers: ER10-2159-000.

Applicants: California Independent System Operator Corporation.

Description: California Independent System Operator Corporation submits tariff filing per 35: 2010-08-06 CAISO Multi-Stage Generating Resource Compliance to be effective N/A.

Filed Date: 08/06/2010.

Accession Number: 20100806-5072.

Comment Date: 5 p.m. Eastern Time on Friday, August 27, 2010.

Docket Numbers: ER10-2160-000.

Applicants: NAEA Ocean Peaking Power, LLC.

Description: NAEA Ocean Peaking Power, LLC submits tariff filing per 35.12: NAEA Ocean Peaking Power MBR Baseline to be effective 8/6/2010.

Filed Date: 08/06/2010.

Accession Number: 20100806-5101.

Comment Date: 5 p.m. Eastern Time on Friday, August 27, 2010.

Docket Numbers: ER10-2161-000.

Applicants: NAEA Energy Massachusetts LLC.

Description: NAEA Energy Massachusetts LLC submits tariff filing per 35.12: NAEA Energy Massachusetts Baseline MBR to be effective 8/6/2010.

Filed Date: 08/06/2010.

Accession Number: 20100806-5102.

Comment Date: 5 p.m. Eastern Time on Friday, August 27, 2010.

Docket Numbers: ER10-2162-000.

Applicants: NAEA Newington Energy, LLC.

Description: NAEA Newington Energy, LLC submits tariff filing per 35.12: NAEA Newington Energy Baseline MBR to be effective 8/6/2010.

Filed Date: 08/06/2010.

Accession Number: 20100806-5103.

Comment Date: 5 p.m. Eastern Time on Friday, August 27, 2010.

Docket Numbers: ER10-2163-000.

Applicants: NAEA Rock Springs, LLC.

Description: NAEA Rock Springs, LLC submits tariff filing per 35.12: Naea Rock Springs, LLC FERC Electric Rate Schedule No. 1 Baseline to be effective 8/6/2010.

Filed Date: 08/06/2010.

Accession Number: 20100806-5104.

Comment Date: 5 p.m. Eastern Time on Friday, August 27, 2010.

Docket Numbers: ER10-2164-000.

Applicants: Tampa Electric Company.

Description: Tampa Electric Company Cancellation Notification of its Rate Schedule No. 55.

Filed Date: 08/06/2010.

Accession Number: 20100806-5128.

Comment Date: 5 p.m. Eastern Time on Friday, August 27, 2010.

Docket Numbers: ER10-2165-000.

Applicants: FirstEnergy Solutions Corp.

Description: FirstEnergy Solutions Corp. submits tariff filing per 35.13(a)(2)(iii) Withdrawal to be effective 5/11/2010.

Filed Date: 08/09/2010.

Accession Number: 20100809-5024.

Comment Date: 5 p.m. Eastern Time on Monday, August 30, 2010.

Docket Numbers: ER10-2166-000.

Applicants: Southwest Power Pool, Inc.

Description: Southwest Power Pool, Inc. submits tariff filing per 35.13(a)(2)(iii) 1677R2 Taloga Wind LGIA to be effective 7/30/2010.

Filed Date: 08/09/2010.

Accession Number: 20100809-5049.

Comment Date: 5 p.m. Eastern Time on Monday, August 30, 2010.

Take notice that the Commission received the following land acquisition reports:

Docket Numbers: LA10-1-000.

Applicants: Order 697-C 2010 1st Qtr Site Acquisition.

Description: Corrected Quarterly Report Pursuant to 18 CFR 35.42(d), Niagara Generation, LLC.

Filed Date: 08/06/2010.

Accession Number: 20100806-5046.

Comment Date: 5 p.m. Eastern Time on Friday, August 27, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-20136 Filed 8-13-10; 8:45 am]

BILLING CODE 6717-01-P